DEPARTMENT OF THE TREASURY

Internal Revenue Service

Recruitment Notice for the Taxpayer Advocacy Panel

AGENCY: Internal Revenue Service (IRS) Treasury.

ACTION: Notice.

SUMMARY: Notice for Recruitment of IRS Taxpayer Advocacy Panel (TAP) Members.

DATES: March 16, 2009 through April 30, 2009.

FOR FURTHER INFORMATION CONTACT: Shawn Collins at 202-622-1245.

SUPPLEMENTARY INFORMATION: Notice is hereby given that the Department of the Treasury and the Internal Revenue Service (IRS) are inviting individuals to help improve the nation's tax agency by applying to be members of the Taxpayer Advocacy Panel. The mission of the TAP is to provide citizen input into enhancing IRS customer satisfaction and service by identifying problems and making recommendations for improvement of IRS systems and procedures and elevating the identified problems to the appropriate IRS official. The TAP serves as an advisory body to the Secretary of the Treasury, the Commissioner of Internal Revenue and the National Taxpayer Advocate. TAP members will participate in subcommittees that channel their feedback to the IRS.

The IRS is seeking applicants who have an interest in good government, a personal commitment to volunteer approximately 300 to 500 hours a year, and a desire to help improve IRS customer service. To the extent possible, the IRS would like to ensure a balanced TAP membership representing a cross-section of the taxpaying public throughout the United States. Potential candidates must be U.S. citizens, compliant with Federal, state and local taxes, and pass a background investigation.

TAP Members are a diverse group of citizens who work as valuable partners of the IRS by providing input from a taxpayer's perspective on ways to improve IRS customer service and administration of the Federal tax system. In order to be an effective member of TAP, applicants must possess the knowledge, skills and abilities necessary to (1) identify grassroots taxpayer issues by soliciting input directly from taxpayers and (2) work effectively with TAP committees, and IRS program staff, to research and analyze issues, develop solutions, and make recommendations to the IRS on ways to improve programs and procedures. TAP members work to identify and solve problems by: Actively participating in committee meetings; expressing their views; listening to the views of others, showing a willingness to explore new ideas, and contributing their knowledge and experience in committee deliberations. TAP members should have good communications skills and be able to make effective presentations about the TAP and TAP activities, while clearly distinguishing between TAP positions and their personal viewpoints.

Interested applicants should visit the TAP Web site at http://www.improveirs.org to complete the on-line application or call the TAP toll free number, 1-888-912-1227 if they have questions about TAP membership. The opening date for submitting applications is March 16, 2009, and the deadline for submitting applications is April 30, 2009. Finalists will be ranked by experience and suitability. The most qualified candidates will complete a panel interview. The Secretary of the Treasury will review the recommended candidates and make final selections. (Note: Highly-ranked applicants not selected as members may be placed on a roster of alternates who will be eligible to fill future vacancies that may occur on the Panel.)

Questions regarding the selection of TAP members may be directed to Shawn Collins, Acting Director, Taxpayer Advocacy Panel, Internal Revenue Service, 1111 Constitution Avenue, NW., Room 1314, Washington, DC 20224, or 202-622-1245.

Dated: January 29, 2009.
Shawn Collins,
Acting Director, Taxpayer Advocacy Panel.

[FR Doc. E9-2424 Filed 2-4-09; 8:45 am]

BILLING CODE 4830-01-P